ENVIRONMENTAL PROTECTION AGENCY

40 CFR Part 62

[WV-6013b; FRL-6714-3]

Approval and Promulgation of State Air Quality Plans for Designated Facilities and Pollutants; West Virginia; Control of Emissions From Existing Hospital/Medical/Infectious Waste Incinerators

AGENCY: Environmental Protection Agency (EPA).

ACTION: Proposed rule.

SUMMARY: EPA is proposing to approve the West Virginia hospital/medical/infectious waste incinerator (HMIWI) 111(d)/129 plan submitted on August 18, 1999 by the West Virginia Division of Environmental Protection (WV DEP), and the subsequent plan amendment of April 19, 2000. The plan establishes emission limitations for existing HMIWIs, and provides for the implementation and enforcement of those limitations. In the final rules section of today's Federal Register, EPA is approving the plan. A detailed rationale for the approval is set forth in the direct final rule. If no adverse comments are received in response to that rule, no further activity is contemplated in relation to this rule. If EPA receives relevant adverse comments, the direct final rule will be withdrawn and all public comments received will be addressed in a subsequent final rule based on this rule. EPA will not institute a second comment period on this document. Any parties interested in commenting on this document should do so at this time.

DATES: Comments must be received in writing by July 13, 2000.

ADDRESSES: Comments may be mailed to Makeba A. Morris, Chief, Technical Assessment Branch, Mailcode 3AP22, Environmental Protection Agency, Region III, 1650 Arch Street, Philadelphia, Pennsylvania 19103-2029.

FOR FURTHER INFORMATION CONTACT: James B. Topsale at (215) 814-2190, or by e-mail at topsale.jim@epa.gov.

SUPPLEMENTARY INFORMATION: See the information provided in the direct final rule, of the same title, which is located in the rules section of the Federal Register.

Authority: 42 U.S.C. 7401-7671q.

Dated: June 1, 2000.
Bradley M. Campbell,
Regional Administrator, EPA Region III.

[FR Doc. 00-14767 Filed 6-12-00; 8:45 am]

BILLING CODE 6560-50-P